DEPARTMENT OF THE INTERIOR

Bureau of Land Management

[LLWO350000.L14300000]

Notice of Proposed Withdrawal and Opportunity for Public Meeting; Arizona, California, Colorado, Nevada, New Mexico, and Utah

AGENCY: Bureau of Land Management, Interior.

ACTION: Notice.

SUMMARY: The Secretary of the Interior proposes to withdraw approximately 676,048 acres of public lands from settlement, sale, location, or entry under the general land laws, including the mining laws, on behalf of the Bureau of Land Management (BLM) to protect and preserve solar energy study areas for future solar energy development. This notice segregates the lands for up to 2 years from surface entry and mining while various studies and analyses are made to support a final decision on the withdrawal application. The lands will remain open to the mineral leasing laws.

DATES: Comments and requests for a public meeting must be received by September 28, 2009.

ADDRESSES: Comments and meeting requests should be sent to the BLM Director, 1849 C Street NW. (WO350), Washington, DC, 20240.

FOR FURTHER INFORMATION CONTACT: Linda Resseguie, BLM, 202-452-7774, or one of the following BLM State Offices.

SUPPLEMENTARY INFORMATION: The applicant is the Bureau of Land Management at the address above and its petition requests the Secretary of the Interior to withdraw, subject to valid existing rights, approximately 676,048 acres of public lands located in the States of Arizona, California, Colorado, Nevada, New Mexico, and Utah from settlement, sale, location, or entry under the general land laws, including the mining laws, but not the mineral leasing laws. The lands are identified in the maps referenced in the Notice of Availability of Maps and Additional Public Scoping for Programmatic Environmental Impact Statement to Develop and Implement Agency-Specific Programs for Solar Energy Development; Bureau of Land Management Approach for Processing Existing and Future Solar Applications to be published in the Federal Register. Copies of the maps are available online at http://solareis.anl.gov and are also available from the BLM offices listed below:

Arizona State Office, One North Central Avenue, Suite 800, Phoenix, AZ 85004.

California State Office, 2800 Cottage Way, Suite W-1623, Sacramento, CA 95825.

Colorado State Office, 2850 Youngfield Street, Lakewood, CO 80215.

Nevada State Office, 1340 Financial Blvd., Reno, NV 89520.

New Mexico State Office, 1474 Rodeo Road, Santa Fe, NM 87505.

Utah State Office, 440 West 200 South, Suite 500, Salt Lake City, UT 84101.

The lands depicted on the maps described above are located within the following townships:

Arizona

Gila and Salt River Meridian

T. 9 N., R. 9 W.

T. 5 N., R. 15 W.

Tps. 4 and 5 N., R. 16 W.

Tps. 2 S., Rs. 6 and 7 W.

California

San Bernardino Meridian

Tps. 8 and 9 N., R. 4 E.

Tps. 7, 8, and 9 N., R. 5 E.

Tps. 8 and 9 N., R. 6 E.

Tps. 1 and 2 N., Rs. 17, 18, 19, and 20 E.

T. 4 S., R. 14 E.

Tps. 3, 4, and 5 S., Rs. 15 and 16 E.

Tps. 3, 4, 5, 6, 16, and 17 S., R. 17 E.

Tps. 1, 6, 16, and 17 S., R. 18 E.

Tps. 1 and 6 S., R. 19 E.

Tps. 4, 5, 6, and 7 S., R. 20 E.

Tps. 4, 5, 7, and 8 S., R. 21 E.

Tps. 4, 5, 6, and 7 S., R. 22 E.

T. 5 S., R. 23 E.

Colorado

New Mexico Principal Meridian

Tps. 34, 35, and 45 N., R. 8 E.

Tps. 32 and 45 N., R. 9 E.

T. 32 N., R. 10 E.

Tps. 37 and 38 N., R. 12 E.

T. 38 N., R. 13 E.

New Mexico

New Mexico Principal Meridian

Tps. 23, 24, and 25 S., R. 1 W.

Tps. 22, 23, 24, and 25 S., R. 2 W.

Tps. 22, 23, and 24 S., R. 3 W.

Tps. 23 and 24 S, R. 4 W.

Tps. 24 and 25 S., R. 1 E.

Tps. 17, 18, and 19 S., Rs. 8 and 9 E.

Nevada

Mount Diablo Meridian

Tps. 3 and 4 N., Rs. 39 and 40 E.

Tps. 1, 2, and 3 N., R. 64 E.

Tps. 1 and 2 N., R. 65 E.

T. 6 S., R. 41 E.

Tps. 13 and 14 S., R. 47 E.

T. 14 S., R. 48 E.

Tps. 5, 6, 7, 16, 17, and 18 S., R. 63 E.

Tps. 1, 16, 17, and 18 S., R. 64 E.

T. 1 S., R. 65 E.

Tps. 11 S., Rs. 69 and 70 E.

Utah

Salt Lake Meridian

Tps. 30 S., Rs. 10, 11, and 12 W.

Tps. 27, 33, and 34 S., R. 14 W.

Tps. 33 and 34 S., R. 15 W.

The BLM's petition for withdrawal has been approved by the Secretary of the Interior.

The purpose of the proposed withdrawal is to protect and preserve solar energy study areas for future solar energy development for a 20-year period.

Records relating to the petition may be examined by contacting Linda Resseguie at the above address or by calling 202-452-7774.

For a period of 90 days from the date of publication of this notice, all persons who wish to submit comments, suggestions, or objections in connection with the proposed withdrawal may present their views in writing to the BLM Director at the address noted above.

Comments including names and street addresses of respondents will be available for public review at the BLM Washington Office at the address noted above, during regular business hours 8 a.m. to 4:30 p.m., Monday through Friday, except holidays. Before including your address, phone number, e-mail address, or other personal identifying information in your comment, you should be aware that your entire comment—including your personal identifying information—may be made publicly available at any time. While you can ask us in your comment to withhold your personal identifying information from public review, we cannot guarantee that we will be able to do so. Individual respondents may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

Notice is hereby given that an opportunity for a public meeting is afforded in connection with the proposed withdrawal. All interested persons who desire a public meeting for the purpose of being heard on the proposed withdrawal must submit a written request to the BLM Director no later than September 28, 2009. If the authorized officer determines that a public meeting will be held, a notice of the time and place will be published in the Federal Register and a local newspaper at least 30 days before the scheduled date of the meeting.

Any application for a withdrawal will be processed in accordance with the regulations set forth in 43 CFR 2310.1-2.

For a period of 2 years from the date of publication of this notice in the Federal Register, the lands referenced in this notice will be segregated from settlement, sale, location, or entry under the general land laws, including the mining laws, unless an application is denied or canceled or the withdrawal is approved prior to that date.

Licenses, permits, cooperative agreements, or discretionary land use authorizations of a temporary nature which would not impact the site may be allowed with the approval of an authorized officer of the BLM during the segregative period.

Authority: 43 CFR 2310.3-1.

Mike Pool,
Acting Director, Bureau of Land Management.

[FR Doc. E9-15472 Filed 6-29-09; 8:45 am]

BILLING CODE 4310-84-P